DEPARTMENT OF HEALTH AND HUMAN SERVICES

Centers for Disease Control and Prevention

Disease, Disability, and Injury Prevention and Control Special Emphasis Panels: Occupational Health and Safety Research, Program Announcement (PA) 04038, and NIOSH Support for Conferences and Scientific Meetings, Program Announcement Request (PAR) 05005

In accordance with section 10(a)(2) of the Federal Advisory Committee Act (Pub. L. 92-463), the Centers for Disease Control and Prevention (CDC) announces the following meeting:

Name: Disease, Disability, and Injury Prevention and Control Special Emphasis Panels (SEP): Occupational Health and Safety Research, Program Announcement 04038, and NIOSH Support for Conferences and Scientific Meetings, Program Announcement Request 05005.

Times and Dates: 5 p.m.-5:30 p.m., March 9, 2005 (Open); 5:30 p.m.-7:30 p.m., March 9, 2005 (Closed); 8:30 a.m.-6:30 p.m., March 10, 2005 (Closed).

Place: Royal Sonesta Hotel New Orleans, 300 Bourbon Street, New Orleans, LA 70140-1014 telephone 504-586-0300.

Status: Portions of the meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to Program Announcement 04038 and Program Announcement Request 05005.

Contact Person for More Information: Pamela J. Wilkerson, MPA, Scientific Review Administrator, Office of Extramural Programs, National Institute for Occupational Safety and Health, CDC, 1600 Clifton Road, NE., MS-E74, Atlanta, GA 30333, Telephone 404-498-2556.

The Director, Management Analysis and Services Office has been delegated the authority to sign Federal Register notices pertaining to announcements of meetings and other committee management activities, for both the CDC and the Agency for Toxic Substances and Disease Registry.

Dated: February 8, 2005.
Alvin Hall,
Director, Management Analysis and Services Office, Centers for Disease Control and Prevention CDC.

[FR Doc. 05-2963 Filed 2-15-05; 8:45 am]

BILLING CODE 4163-19-P